DEPARTMENT OF JUSTICE

Antitrust Division

Notice Pursuant to the National Cooperative Research and Production Act of 1993—UHD Alliance, Inc.

Notice is hereby given that, on March 8, 2018, pursuant to Section 6(a) of the National Cooperative Research and Production Act of 1993, 15 U.S.C. 4301 et seq. (“the Act”), UHD Alliance, Inc. (“UHD Alliance”) filed written notifications simultaneously with the Attorney General and the Federal Trade Commission disclosing changes in its membership. The notifications were filed for the purpose of extending the Act's provisions limiting the recovery of antitrust plaintiffs to actual damages under specified circumstances. Specifically, Google, Inc., Mountain View, CA; Teledyne LeCroy, Elgin, IL; and Synaptics, San Jose, CA, have been added as parties to this venture.

Also, HDAnywhere Ltd., Malvern, UNITED KINGDOM; Quantum Data, Inc., Elgin, IL; and Sky UK Ltd., Isleworth, UNITED KINGDOM, have withdrawn as parties to this venture.

In addition, the following members have changed their names: Koninklijke Philips N.V. to Philips International B.V.-IP&S, Eindhoven, NETHERLANDS; and DTS, Inc., to Xperi Corporation, Calabasas, CA.

No other changes have been made in either the membership or planned activity of the group research project. Membership in this group research project remains open, and UHD Alliance intends to file additional written notifications disclosing all changes in membership.

On June 17, 2015, UHD Alliance filed its original notification pursuant to Section 6(a) of the Act. The Department of Justice published a notice in the Federal Register pursuant to Section 6(b) of the Act on July 17, 2015 (80 FR 42537).

The last notification was filed with the Department on December 15, 2017. A notice was published in the Federal Register pursuant to Section 6(b) of the Act on February 12, 2018 (83 FR 6051).

Patricia A. Brink,
Director of Civil Enforcement, Antitrust Division.

[FR Doc. 2018-07129 Filed 4-6-18; 8:45 am]

BILLING CODE 4410-11-P